DEPARTMENT OF THE INTERIOR

Bureau of Land Management

[LLNVS00000 L51010000 ER0000 LVRWF1301100; 13-08807; MO# ; TAS:]

Notice of Availability of the Record of Decision for the Moapa Solar Energy Center Project, Clark County, NV

AGENCY: Bureau of Land Management, Interior.

ACTION: Notice of availability.

SUMMARY: The Bureau of Land Management (BLM) announces the availability of the Record of Decision (ROD) for the Moapa Solar Energy Center Project. The Principal Deputy Assistant Secretary for Land and Minerals Management signed the ROD on May 1, 2014, which constitutes the final decision of the Department.

ADDRESSES: Copies of the ROD are available upon request and for public inspection at the Southern Nevada District Office, Bureau of Land Management, 4701 N. Torrey Pines Drive, Las Vegas, NV 89130 or on the Internet at http://www.moapasolarenergycentereis.com/.

FOR FURTHER INFORMATION CONTACT: Gregory Helseth, Renewable Energy Project Manager, telephone 702-515-5173; address 4701 N. Torrey Pines Drive, Las Vegas, NV 89130; email ghelseth@blm.gov. Persons who use a telecommunications device for the deaf (TDD) may call the Federal Information Relay Service (FIRS) at 1-800-877-8339 to contact Mr. Helseth during normal business hours. The FIRS is available 24 hours a day, 7 days a week, to leave a message or question for Mr. Helseth. You will receive a reply during normal business hours.

SUPPLEMENTARY INFORMATION: Moapa Solar, LLC, applied to the BLM for a right-of-way grant on public lands to develop ancillary facilities for the 200 MW project on tribal lands. These ancillary facilities consit of roads, transmission lines, and a water pipeline. The generation-interconnection lines and access road would be located on approximately 167.2 acres of Federal lands managed by the BLM south of the site within Mount Diablo Meridian, Township 17 South, Range 63 East, Sections 29 thru 32. The water pipeline associated with the Project would be located on approximately 46.7 acres within the Moapa River Indian Reservation, northeast of the Moapa Solar Energy Center Project in Township 16 South, Range 64 East, Sections 28, 32, and 33. The Moapa Solar Energy Center Project is located approximately 20 miles northeast of Las Vegas in Clark County, Nevada.

The Environmental Protection Agency (EPA) and the BLM published the Notice of Availability of the Draft Environmental Impact Statement (EIS) concurrently in the Federal Register by the Bureau of Indian Affairs (BIA) on September 13, 2013 (78 FR 56695).

The EPA published the Notice of Availability of the Final EIS in the Federal Register by the BIA on February 14, 2014 (79 FR 8986). Printed and electronic copies of the Draft and Final EIS are available at the Southern Nevada District Office and are posted on the Internet at http://www.moapasolarenergycentereis.com. The Final EIS analyzed five action alternatives and a No Action Alternative. The Proposed Action alternative is the BLM preferred alternative. This alternative is the applicant's original proposal (as described in its Plan of Development dated February 26, 2013). The ROD approves the construction, operation, maintenance, and decommissioning of an access road, water pipeline, and 230kV and 500 kV transmission lines on BLM-managed lands analyzed as part of the Proposed Action in the Final EIS for the Moapa Solar Energy Center. The ROD conditions the BLM's approval on all mitigation measures identified in the Final EIS and additional mitigation measures identified in the ROD.

Because this decision is approved by the Secretary of the Interior, it is not subject to administrative appeal (43 CFR 4.410(a)(3)).

Authority: 40 CFR 1506.6 and 40 CFR 1506.10.

Linda Lance,
Deputy Director, Programs and Policy, Bureau of Land Management.

[FR Doc. 2014-10805 Filed 5-9-14; 8:45 am]

BILLING CODE 4310-HC-P